LIBRARY OF CONGRESS

36 CFR Part 701

[Docket No. LOC 05-1]

Library of Congress; Loans of Library Materials for Blind and Physically Handicapped; Correction

AGENCY: Library of Congress.

ACTION: Final rule; correcting amendment

SUMMARY: In order to keep the public informed, we are resubmitting language that was previously redacted from the CFR. The National Library Service for the Blind and Physically Handicapped is able to better serve its constituents with the information provided through publication. Therefore we are re-inserting language previously in § 701.10, Loans of library materials for blind and other physically handicapped persons, and renumbering it 701.6. The section has been also revised to add reference to the program's Web site.

DATES: Effective June 27, 2005.

FOR FURTHER INFORMATION CONTACT: Frank Kurt Cylke, Director, National Library Service for the Blind and Physically Handicapped, (202) 707-5104. Elizabeth A. Pugh, General Counsel, Office of the General Counsel, Library of Congress, Washington, DC 20540-1050. Telephone No. (202) 707-6316.

SUPPLEMENTARY INFORMATION: The regulation re-inserted explains the loan program for blind and physically handicapped persons and the criteria for eligibility to participate.

List of Subjects in 36 CFR Part 701

Archives and records, Libraries, Conduct, Films and the American Television and Radio Archives Act.

Final Regulations.

In consideration of the foregoing the Library of Congress amends 36 CFR part 701 as follows:

PART 701—PROCEDURES AND SERVICES

1. The authority citation for part 701 continues to read as follows:

Authority: 2 U.S.C. 136; 18 U.S.C. 1017.

2. Add § 701.6 to read as follows:

§701.6 Loans of library materials for blind and other physically handicapped persons.

(a) Program. In connection with the Library's program of service under the Act of March 3, 1931 (46 Stat. 1487), as amended, its National Library Service for the Blind and Physically Handicapped provides books in raised characters (braille), on sound reproduction recordings, or in any other form, under regulations established by the Library of Congress. The National Library Service also provides and maintains reproducers for such sound reproduction recordings for the use of blind and other physically handicapped residents of the United States, including the several States, Territories, Insular Possessions, and the District of Columbia, and American citizens temporarily domiciled abroad.

(b) Eligibility criteria. (1) The following persons are eligible for such service:

(i) Blind persons whose visual acuity, as determined by competent authority, is 20/200 or less in the better eye with correcting glasses, or whose wide diameter if visual field subtends an angular distance no greater than 20 degrees.

(ii) Persons whose visual disability, with correction and regardless of optical measurement, is certified by competent authority as preventing the reading of standard printed material.

(iii) Persons certified by competent authority as unable to read or unable to use standard printed material as a result of physical limitations.

(iv) Persons certified by competent authority as having a reading disability resulting from organic dysfunction and of sufficient severity to prevent their reading printed material in a normal manner.

(2) In connection with eligibility for loan services “competent authority” is defined as follows:

(i) In cases of blindness, visual disability, or physical limitations “competent authority” is defined to include doctors of medicine, doctors of osteopathy, ophthalmologist, optometrists, registered nurses, therapists, professional staff of hospitals, institutions, and public or welfare agencies (e.g., social workers, case workers, counselors, rehabilitation teachers, and superintendents). In the absence of any of these, certification may be made by professional librarians or by any persons whose competence under specific circumstances is acceptable to the Library of Congress.

(ii) In the case of reading disability from organic dysfunction, competent authority is defined as doctors of medicine who may consult with colleagues in associated disciplines.

(c) Loans through regional libraries. Sound reproducers are lent to individuals and appropriate centers through agencies, libraries, and other organizations designated by the Librarian of Congress to service specific geographic areas, to certify eligibility of prospective readers, and to arrange for maintenance and repair of reproducers. Libraries designated by the Librarian of Congress serve as local or regional centers for the direct loan of such books, reproducers, or other specialized material to eligible readers in specific geographic areas. They share in the certification of prospective readers, and utilize all available channels of communication to acquaint the public within their jurisdiction with all aspects of the program.

(d) National collections. The Librarian of Congress, through the National Library Service for the Blind and Physically Handicapped, defines regions and determines the need for new regional libraries in cooperation with other libraries or agencies whose activities are primarily concerned with the blind and physically handicapped. It serves as the center from which books, recordings, sound reproducers, and other specialized materials are lent to eligible blind and physically handicapped readers who may be temporarily domiciled outside the jurisdictions enumerated by the Act. It maintains a special collection of books in raised characters and on sound reproduction recordings not housed in regional libraries and makes these materials available to eligible borrowers on interlibrary loan.

(e) Institutions. The reading materials and sound reproducers for the use of blind and physically handicapped persons may be loaned to individuals who qualify, to institutions such as nursing homes and hospitals, and to schools for the blind and physically handicapped for the use of such persons only. The reading materials and sound reproducers may also be used in public or private schools where handicapped students are enrolled; however, the students in public or private schools must be certified as eligible on an individual basis and must be the direct and only recipients of the materials and equipment.

(f) Musical scores. The National Library Service also maintains a library of musical scores, instructional texts, and other specialized materials for the use of the blind and other physically handicapped residents of the United States and its possessions in furthering their educational, vocational, and cultural opportunities in the field of music. Such scores, texts, and materials are made available on a loan basis under regulations developed by the Librarian of Congress in consultation with persons, organizations, and agencies engaged in work for the blind and for other physically handicapped persons.

(g) Veterans. In the lending of such books, recordings, reproducers, musical scores, instructional texts, and other specialized materials, preference shall be at all times given to the needs of the blind and other physically handicapped persons who have been honorably discharged from the Armed Forces of the United States.

(h) Inquiries for information relative to the prescribed procedures and regulations governing such loans and requests for loans should be addressed to Director, National Library Service for the Blind and Physically Handicapped, Library of Congress, Washington, DC 20542 or visit our Web site at http://www.loc.gov/nls.

Dated: May 6, 2005.
Approved by:
James H. Billington,
The Librarian of Congress.

[FR Doc. 05-12632 Filed 6-24-05; 8:45 am]

BILLING CODE 2420-05-P